DEPARTMENT OF COMMERCE

International Trade Administration

C-423-806

Cut-to-Length Carbon Steel Plate from Belgium: Final Results of Full Sunset Review

AGENCY: Import Administration, International Trade Administration, Department of Commerce.

SUMMARY: On November 1, 2005, the Department of Commerce (the Department) initiated a sunset review of the countervailing duty (CVD) order on cut-to-length carbon steel plate (CTL plate) from Belgium, pursuant to section 751(c) of the Tariff Act of 1930, as amended (the Act). On the basis of a notice of intent to participate and an adequate substantive response filed on behalf of the domestic interested parties and adequate responses from respondent interested parties, the Department determined to conduct a full sunset review of this CVD order pursuant to section 751(c) of the Act and 19 CFR 351.218(e)(2). On July 21, 2006, the Department published the preliminary results in this review and invited interested parties to comment on those results. See Preliminary Results of Full Sunset Review: Cut-to-Length Carbon Steel Plate From Belgium, 71 FR 41424 (Preliminary Results). As a result of our analysis, the Department finds that revocation of the CVD order would be likely to lead to continuation or recurrence of a countervailable subsidy at the level indicated in the “Final Results of Review” section of this notice.

EFFECTIVE DATE: October 4, 2006.

FOR FURTHER INFORMATION CONTACT: Sean Carey, AD/CVD Operations, Office 6, Import Administration, International Trade Administration, U.S. Department of Commerce, 14th Street and Constitution Avenue, NW, Washington, DC 20230; telephone: (202) 482-3964.

SUPPLEMENTARY INFORMATION:

Background

On November 1, 2005, the Department initiated the second sunset review of the CVD order on CTL plate from Belgium, pursuant to section 751(c) of the Act. See Initiation of Five-year (“Sunset”) Reviews, 70 FR 65884 (November 1, 2005). On December 21, 2005, the Department determined that the participation of the respondent interested parties was adequate, and that it was appropriate to conduct a full sunset review. See Memorandum to Steven J. Claeys, Deputy Assistant Secretary, Import Administration, Re: Adequacy Determination; Sunset Review of the Countervailing Duty Order on Cut-to-Length Carbon Steel Plate from Belgium dated December 21, 2005, and on file in the Central Records Unit, Room B-099 of the Department of Commerce building (CRU).

On February 10, 2006, the Department extended the time limit for the preliminary and final results of the sunset review of the CVD order on CTL plate from Belgium. See Cut-to-Length Carbon Steel Plate from Belgium, Sweden, and the United Kingdom; Extension of Time Limits for Preliminary and Final Results of Full Five-year (“Sunset”) Reviews of Countervailing Duty Orders, 71 FR 7017. On July 21, 2006, the Department published its Preliminary Results of Full Sunset Review: Cut-to-Length Carbon Steel Plate from Belgium, 71 FR 41424 (Preliminary Results). In our Preliminary Results, we found that revocation of the order would likely lead to continuation or recurrence of countervailable subsidies on the subject merchandise.

Interested parties were invited to comment on our Preliminary Results. On August 4, 2006, we received a timely case brief from the Government of Belgium (GOB). On August 7, 2006, we received timely case briefs from Duferco Clabecq S.A. (Duferco), which purchased Forges de Clabecq S.A.(Clabecq), and Arcelor S.A. (Arcelor), claiming to be the successor-in-interest to both Fabrique de Fer de Charleroi (Fafer)¹ and Cockerill Sambre (Cockerill).² We received no comments from domestic interested parties.

¹ In other proceedings under this order, Fafer has at times been referred to as “Fabfer.”

² Although Duferco reported that it purchased Clabecq, and Arcelor claims to be successor-in-interest to the other two original respondent companies, the Department has not made a determination in the past that Duferco and Arcelor are the successors-in-interest to the respective respondent companies and is not making such a determination in this sunset review. However, we have considered in this sunset review the historical information provided with respect to Duferco and Arcelor for purposes of our privatization and change-in-ownership analyses. See Memorandum to Stephen J. Claeys, Deputy Assistant Secretary, Import Administration, Re: Sunset Review of Countervailing Duty Order on Cut-to-Length Carbon Steel Plate from Belgium; Analysis of Changes in Ownership, dated July 14, 2006, incorporated in the Preliminary Results and on file in the CRU.

Scope Of The Order

The product subject to this CVD order includes hot-rolled carbon steel universal mill plates (i.e., flat-rolled products rolled on four faces or in a closed box pass, of a width exceeding 150 millimeters but not exceeding 1,250 millimeters and of a thickness of not less than 4 millimeters, not in coils and without patterns in relief), of rectangular shape, neither clad, plated, nor coated with metal, whether or not painted, varnished, or coated with plastics or other nonmetallic substances; and certain hot-rolled carbon steel flat-rolled products in straight lengths, of rectangular shape, hot rolled, neither clad, plated, nor coated with metal, whether or not painted, varnished, or coated with plastics or other nonmetallic substances, 4.75 millimeters or more in thickness and of a width which exceeds 150 millimeters and measures at least twice the thickness, as currently classifiable in the United States Harmonized Tariff Schedule (“HTS”) under item numbers: 7208.31.0000, 7208.32.0000, 7208.33.1000, 7208.33.5000, 7208.41.0000, 7208.42.0000, 7208.43.0000, 7208.90.0000, 7210.70.3000, 7210.90.9000, 7211.11.0000, 7211.12.0000, 7211.21.0000, 7211.22.0045, 7211.90.0000, 7212.40.1000, 7212.40.5000, and 7212.50.5000. Included in this CVD order are flat-rolled products of non-rectangular cross-section where such cross-section is achieved subsequent to the rolling process (i.e., products which have been “worked after rolling”)--for example, products which have been beveled or rounded at the edges. Excluded from this order is grade X-70 plate. The HTS item numbers are provided for convenience and customs purposes. The written description remains dispositive.

The Court of Appeals for the Federal Circuit found, in Duferco Steel, Inc. v. United States, 296 F.3d 1087 (July 12, 2002), that imported floor plate is excluded from this CVD order on steel plate.

Analysis Of Comments Received

All issues raised in this review are addressed in the Issues and Decision Memorandum for Final Results of Full Sunset Review of the Countervailing Duty Order on Cut-to-length Carbon Steel Plate from Belgium from Steven J. Claeys, Deputy Assistant Secretary for Import Administration, to James C. Leonard III, Acting Assistant Secretary for Import Administration (Final Decision Memorandum), dated concurrently with this notice and which is hereby adopted by this notice. The issues discussed in the Final Decision Memorandum include the likelihood of continuation or recurrence a countervailable subsidy; the net countervailable subsidy likely to prevail; privatization of Cockerill; and, nature of the subsidy. Parties can find a complete discussion of all issues raised in this review and the corresponding recommendation in this public memorandum which is on file in the CRU. In addition, a complete version of the Final Decision Memorandum can be accessed directly on the Web at http://ia.ita.doc.gov/frn. The paper and electronic versions of the Final Decision Memorandum are identical in content.

Final Results Of Review

The Department determines that revocation of the CVD order would likely lead to continuation or recurrence of a countervailable subsidy. As discussed more fully in the Final Decision Memorandum, we find that certain countervailable subsidies continue to be in existence. Accordingly, we find the net countervailable subsidy likely to prevail if the order were revoked to be:

Producers/exporters | Net Countervailable Subsidy (percent)
Cockerill | 2.82
Fafer | 0.56
All others (including Clabecq) | 0.50

International Trade Commission (ITC) Notification

In accordance with section 752(b)(3) of the Act, we will notify the ITC of the final results of this full sunset review.

Notification Regarding Administrative Protective Order

This notice also serves as the only reminder to parties subject to administrative protective orders (APO) of their responsibility concerning the return or destruction of proprietary information disclosed under APO in accordance with section 351.305 of the Department's regulations. Timely notification of the return or destruction of APO materials or conversion to judicial protective order is hereby requested. Failure to comply with the regulations and terms of an APO is a violation which is subject to sanction.

We are issuing and publishing this determination and notice in accordance with sections 751(c), 752, and 777(i) of the Act.

Dated: September 27, 2006.
James C. Leonard III,
Acting Assistant Secretary for Import Administration.

[FR Doc. E6-16390 Filed 10-3-06; 8:45 am]

BILLING CODE 3510-DS-S